DEPARTMENT OF TRANSPORTATION

Federal Aviation Administration

14 CFR Part 39

[Docket No. 2000-NE-15-AD]

RIN 2120-AA64

Airworthiness Directives; Turbomeca Artouste II and Artouste III Series Turboshaft Engines

AGENCY: Federal Aviation Administration, DOT.

ACTION: Notice of proposed rulemaking (NPRM).

SUMMARY: This document proposes the adoption of a new airworthiness directive (AD) that is applicable to Turbomeca Artouste II and Artouste III series turboshaft engines. This proposal would require installation of modification TU 24, TU 167 or TU 164, depending on the specific engine model. These modifications would prevent uncommanded partial closing or total closing of the electrical fuel cock, which would prevent uncommanded in-flight engine shutdown. From the effective date of this AD, and until the modifications are installed, this proposal would also limit the duration of the engine operating cycle. This proposal is prompted by reports of unexpected power loss during test flights. The actions specified by the proposed AD are intended to prevent unexpected power loss, which could result in an uncommanded in-flight engine shutdown, autorotation, and forced landing.

DATES: Comments must be received by July 31, 2000.

ADDRESSES: Submit comments to the Federal Aviation Administration (FAA), New England Region, Office of the Regional Counsel, Attention: Rules Docket No. 2000-NE-15-AD, 12 New England Executive Park, Burlington, MA 01803-5299. Comments may also be submitted to the Rules Docket by using the following Internet address: “9-ane-adcomment@faa.gov”. Comments may be inspected at this location between 8:00 a.m. and 4:30 p.m., Monday through Friday, except Federal holidays.

The service information referenced in the proposed rule may be obtained from Turbomeca, 40220 Tarnos, France; telephone 33 05 59 64 40 00, fax 33 05 59 64 60 80. This information may be examined at the FAA, New England Region, Office of the Regional Counsel, 12 New England Executive Park, Burlington, MA.

FOR FURTHER INFORMATION CONTACT: Glorianne Niebuhr, Aerospace Engineer, Engine Certification Office, FAA, Engine and Propeller Directorate, 12 New England Executive Park, Burlington, MA 01803-5299, telephone (781) 238-7132, fax (781) 238-7199.

SUPPLEMENTARY INFORMATION:

Comments Invited

Interested persons are invited to participate in the making of the proposed rule by submitting such written data, views, or arguments as they may desire. Communications should identify the Rules Docket number and be submitted to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NE-15-AD.” The postcard will be date stamped and returned to the commenter.

Availability of NPRMs

Any person may obtain a copy of this NPRM by submitting a request to the FAA, New England Region, Office of the Regional Counsel, Attention: Rules Docket No. 2000-NE-15-AD, 12 New England Executive Park, Burlington, MA 01803-5299.

Discussion

The Director General de L'Aviation Civile (DGAC), which is the airworthiness authority for France, recently notified the Federal Aviation Administration (FAA) that an unsafe condition may exist on Turbomeca Artouste II and Artouste III series turboshaft engines. The DGAC advises that it has received reports of unexpected power loss in service. This power loss is due to closing of the electrical fuel cock. This condition, if not corrected, could result in unexpected power loss, which could result in an uncommanded in-flight engine shutdown, autorotation, and forced landing.

Service Information

Turbomeca has issued Artouste II Service Bulletin (SB) No. 223 72 0070, dated January 21, 1999, that specifies procedures for installing modification TU 24, which provides an equipped relay inside the control unit. Turbomeca has also issued Artouste III SB No. 218 80 0098, dated January 14, 1999 and SB No. 218 80 0093, Revision 2, dated January 14, 1999 which state similar requirements and specify procedures for installation of modifications TU 164 and TU 167 respectively. The DGAC classified these SB's as mandatory and issued Airworthiness Directive (AD) 1999-005(A), dated January 13, 1999, and AD 1999-090(A), dated February 24, 1999, in order to ensure the airworthiness of these engines in France.

Bilateral Airworthiness Agreement

This engine model is manufactured in France and is type certificated for operation in the United States under the provisions of Section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Proposed Actions

Since an unsafe condition has been identified that is likely to exist or develop on other engines used on helicopters of the same type design registered in the United States, the proposed AD would require installation of modification TU 24, TU 164 or TU 167 at the earliest of the following:

• The next shop visit after the effective date of this AD, or

• Within 30 days after the effective date of this AD, or

• Within 120 cycles-in-service after the effective date of this AD.

The actions would be required to be accomplished in accordance with the SB's described previously. This proposal will also limit the duration of the engine operating cycle, from the effective date of this AD, to a two-hour cycle (engine start/stop) until the modifications are installed.

Economic Analysis

There are approximately 3,102 engines of the affected design in the worldwide fleet. The FAA estimates that 213 engines installed on aircraft of US registry would be affected by this proposed AD, that it would take approximately 2 work hours per engine to accomplish the proposed actions, and that the average labor rate is $60 per work hour. Required parts would cost approximately $630 per engine. Based on these figures, the total cost impact of the proposed AD on US operators is estimated to be $159,750. The manufacturer has advised the DGAC that it may provide modifications TU 164 and TU 167 at no cost to the operator, thereby substantially reducing the cost impact of this proposed rule.

Regulatory Impact

This proposal does not have federalism implications, as defined in Executive Order 13132, because it would not have a substantial direct effect on the States, on the relationship between the national government and the States, or on the distribution of power and responsibilities among the various levels of government. Accordingly, the FAA has not consulted with state authorities prior to publication of this proposal.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Turbomeca: Docket No. 2000-NE-15-AD.

Applicability: This airworthiness directive (AD) applies to Turbomeca Artouste II and Artouste III B, B1 and D series turboshaft engines. These engines are installed on, but not limited to, Alouette II SE 3130, Alouette II SE 313 B, Eurocopter SA 315 LAMA and SA 316 Alouette III series helicopters.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance: Required as indicated, unless accomplished previously.

To prevent unexpected power loss, which could result in an uncommanded in-flight engine shutdown, autorotation, and forced landing, accomplish the following:

For Artouste II Engines

(a) As of the effective date of this AD, the duration of the operating cycle (start-up to shutdown) is limited to two hours total until modification TU 24 is installed in accordance with Turbomeca Artouste II Service Bulletin 218 80 0070, Section 2, dated January 21, 1999.

(b) At the next shop visit, within 30 days, or within 120 cycles after the effective date of this AD, whichever occurs first, install modification TU 24 in accordance with Turbomeca Artouste II Service Bulletin 218 80 0070, Section 2, dated January 21, 1999.

For Artouste III B and Artouste III B1 Engines

(c) As of the effective date of this AD, the duration of the operating cycle (start-up to shutdown) is limited to two hours total until modification TU 167 is installed in accordance with Turbomeca Artouste III Service Bulletin 218 80 0093, Revision 2, Section 2, dated January 14, 1999.

(d) At the next shop visit, within 30 days, or within 120 cycles after the effective date of this AD, whichever occurs first, install modification TU 167 in accordance with Turbomeca Artouste III Service Bulletin 218 80 0093, Revision 2, Section 2, dated January 14, 1999.

For Artouste III D Engines

(e) As of the effective date of this AD, the duration of the operating cycle (start-up to shutdown) is limited to two hours total until modification TU 164 is installed in accordance with Turbomeca Artouste III Service Bulletin 218 80 0098, Section 2, dated January 14, 1999.

(f) At the next shop visit, within 30 days, or within 120 cycles after the effective date of this AD, whichever occurs first, install modification TU 164 in accordance with Turbomeca Artouste III Service Bulletin 218 80 0098, Section 2, dated January 14, 1999.

Definition

(g) For the purpose of this AD, a shop visit is defined as any time when the engine is removed from the helicopter for maintenance.

Alternative Methods of Compliance

(h) An alternative method of compliance or adjustment of the compliance time that provides an acceptable level of safety may be used if approved by the Manager, Engine Certification Office. Operators shall submit their request through an appropriate FAA Principal Maintenance Inspector, who may add comments and then send it to the Manager, Engine Certification Office.

Note 2: Information concerning the existence of approved alternative methods of compliance with this airworthiness directive, if any, may be obtained from the Engine Certification Office.

Special Flight Permits

(i) Special flight permits may be issued in accordance with sections 21.197 and 21.199 of the Federal Aviation Regulations (14 CFR 21.197 and 21.199) to operate the helicopter to a location where the requirements of this AD can be accomplished.

Issued in Burlington, Massachusetts, on May 23, 2000.

Thomas A. Boudreau,
Acting Manager, Engine and Propeller Directorate, Aircraft Certification Service.

[FR Doc. 00-13567 Filed 5-30-00; 8:45 am]

BILLING CODE 4910-13-U